NATIONAL FOUNDATION ON THE ARTS AND THE HUMANITIES

National Endowment for the Arts

60-Day Notice for “Civil Rights Evaluation Tool”

AGENCY: National Endowment for the Arts.

ACTION: Notice of proposed collection; comment request.

SUMMARY: The National Endowment for the Arts (NEA), as part of its continuing effort to reduce paperwork and respondent burden, conducts a preclearance consultation program to provide the general public and federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the NEA is soliciting comments concerning the proposed information collection of: Civil Rights Evaluation Tool, designed to evaluate grant recipients' compliance with federal law including Title VI of the Civil Rights Act of 1964 and 45 CFR part 1110, Nondiscrimination in Federally Assisted Programs. A copy of the proposed information collection request can be obtained by contacting the office listed below in the address section of this notice.

DATES: Written comments must be submitted to the office listed in the address section below within 60 days from the date of this publication in the Federal Register. The NEA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Can help the agency minimize the burden of the collection of information on those who are to respond, including through the electronic submission of responses.

ADDRESSES: Email comments to the Office of Civil Rights and Equal Employment Opportunity (OCREEO), National Endowment for the Arts, at: 202-682-5014 or CivilRights@arts.gov.

FOR FURTHER INFORMATION CONTACT: David Travis, Guidelines and Panel Operations Specialist, National Endowment for the Arts, at: 202-682-5001 or travisd@arts.gov.

Dated: January 17, 2024.
David Travis,
Specialist, Guidelines and Panel Operations, Administrative Services, National Endowment for the Arts.

[FR Doc. 2024-01097 Filed 1-19-24; 8:45 am]

BILLING CODE 7537-01-P